DEPARTMENT OF COMMERCE

International Trade Administration

[A-475-818]

Certain Pasta From Italy: Preliminary Results of Antidumping Duty Administrative Review and Partial Recission of Review; 2020-2021

AGENCY: Enforcement and Compliance, International Trade Administration, Department of Commerce.

SUMMARY: The U.S. Department of Commerce (Commerce) preliminarily determines that certain pasta (pasta) from Italy was sold in the United States at less than normal value (NV) during the period of review (POR), July 1, 2020, through June 30, 2021. Further, Commerce is rescinding this review for fifteen of the companies for which this review was initiated. Interested parties are invited to comment on these preliminary results.

DATES: Applicable August 2, 2022.

FOR FURTHER INFORMATION CONTACT: Jonathan Hall-Eastman, AD/CVD Operations, Office III, Enforcement and Compliance, International Trade Administration, U.S. Department of Commerce, 1401 Constitution Avenue NW, Washington, DC 20230; telephone: (202) 482-1468.

SUPPLEMENTARY INFORMATION:

Background

On July 24, 1996, Commerce published the antidumping duty order on pasta from Italy in the Federal Register.¹ On July 1, 2021, Commerce published a notice of opportunity to request an administrative review of the Order.² On September 7, 2021, based on timely requests for an administrative review, Commerce initiated an administrative review of the Order covering the following sixteen companies: Aldino S.R.L., Armonie D'Italia srl., Pastificio Di Martino Gaetano e Flli S.p.A. (Di Martino), F. Divella S.p.A., Falco Molino e Pastificio srl., La Molisana S.p.A., Pasta Casiglioni, Pastificio C.A.M.S. Srl., Pastificio Della Forma S.R.L., Pastificio Favellato srl., Pastificio Fratelli De Luca S.R.L., Liguori Pastificio dal 1820 S.p.A., Pastificio Mediterranea S.R.L., Pastificio Tamma S.R.L., Rummo S.p.A., and Valdigrano di Flavio Pagani S.R.L.³ Because the review requests for all companies except for Di Martino were timely withdrawn, on December 13, 2022, we selected Di Martino for individual examination as the sole mandatory respondent.⁴ Further, we have preliminarily collapsed Di Martino and its affiliate Pastificio dei Campi (Dei Campi) and have treated these two companies as a single entity.⁵

¹ See Notice of Antidumping Duty Order and Amended Final Determination of Sales at Less Than Fair Value: Certain Pasta from Italy, 61 FR 38547 (July 24, 1996) (Order).

² See Antidumping or Countervailing Duty Order, Finding, or Suspended Investigation; Opportunity To Request Administrative Review, 86 FR 35065 (July 1, 2021).

³ See Initiation of Antidumping and Countervailing Duty Administrative Reviews, 86 FR 50034 (September 7, 2021).

⁴ See Memorandum, “2020-2021 Antidumping Duty Administrative Review of Certain Pasta from Italy: Selection of New Respondent,” dated December 13, 2021

⁵ See Memorandum, “Preliminary Affiliation and Collapsing Memorandum for Pastificio Di Martino and Pastificio Dei Campi,” dated concurrently with this notice.

On March 3, 2022, Commerce extended the deadline for these preliminary results to July 29, 2022.⁶ For a complete description of the events that followed the initiation of this review, see the Preliminary Decision Memorandum.⁷ The Preliminary Decision Memorandum is a public document and is on file electronically via the Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Certain Pasta from Italy: Extension of Deadline for Preliminary Results of Antidumping Duty Administrative Review,” dated March 3, 2022.

⁷ See Memorandum, “Certain Pasta from Italy: Decision Memorandum for the Preliminary Results of Antidumping Duty Administrative Review; 2020-2021,” dated concurrently with, and hereby adopted by, this notice (Preliminary Decision Memorandum).

Scope of the Order

The products covered by this order are certain pasta from Italy. For a full description of the scope, see the Preliminary Decision Memorandum.

Methodology

Commerce is conducting this review in accordance with section 751(a)(1)(B) of the Tariff Act of 1930, as amended (the Act). Export price and constructed export price were calculated in accordance with sections 772(a) and (b) of the Act, respectively. NV was calculated in accordance with section 773 of the Act. For a full description of the methodology underlying these preliminary results, see the Preliminary Decision Memorandum. A list of topics discussed in the Preliminary Decision Memorandum is included as Appendix I to this notice.

Partial Rescission of Review

Pursuant to 19 CFR 351.213(d)(1), Commerce will rescind an administrative review, in whole or in part, if the party that requested the review withdraws its request within 90 days of the publication of the notice of initiation of the requested review. Because all requests for administrative review of the 15 companies listed in Appendix II were timely withdrawn, and no other party requested a review of these companies, Commerce is rescinding this review, in part, with respect to these companies, in accordance with 19 CFR 351.213(d)(1).

Preliminary Results of Review

Commerce preliminarily determines that the following weighted-average dumping margin exists for the POR:

Producer or exporter | Weighted-average dumping margin (percent)
Pastificio Di Martino Gaetano e Flli S.p.A. and Pastificio dei Campi S.p.A.⁸ | 6.60

Disclosure

Commerce intends to disclose under Administrative Protective Order the calculations performed in connection with these preliminary results to interested parties in this preliminary determination within five days of any public announcement or, if there is no public announcement, within five days of the date of publication of this notice in accordance with 19 CFR 351.224(b).

⁸ Commerce preliminarily determines that Di Martino and Dei Campi are a single entity. See Preliminary Decision Memorandum.

Public Comment

Pursuant to 19 CFR 351.309(c)(1)(ii), interested parties may submit case briefs not later than 30 days after the date of publication of this notice. Rebuttal briefs, limited to issues raised in the case briefs, may be filed no later than seven days after the date for filing case briefs.⁹ Parties who submit case or rebuttal briefs in this proceeding are requested to submit with each argument: (1) a statement of the issue; (2) a brief summary of the argument; and (3) a table of authorities.¹⁰

⁹ See 19 CFR 351.309(d)(1) and (2); see also Temporary Rule Modifying AD/CVD Service Requirements Due to COVID-19, 85 FR 17006 (March 26, 2020); and Temporary Rule Modifying AD/CVD Service Requirements Due to COVID-19; Extension of Effective Period, 85 FR 41363 (July 10, 2020) (collectively, Temporary Rule).

¹⁰ See 19 CFR 351.309(c)(2) and (d)(2); see also 19 CFR 351.303 (for general filing requirements).

Pursuant to 19 CFR 351.310(c), interested parties who wish to request a hearing, limited to issues raised in the case and rebuttal briefs, must submit a written request to the Assistant Secretary for Enforcement and Compliance, filed electronically via ACCESS, within 30 days after the date of publication of this notice. Requests should contain: (1) the party's name, address, and telephone number; (2) the number of participants; and (3) a list of issues to be discussed. If a request for a hearing is made, Commerce intends to hold the hearing at a time and date to be determined. Parties should confirm by telephone the date, time, and location hearing two days before the scheduled date.

All submissions must be filed electronically using ACCESS.¹¹ An electronically filed document must be received successfully in its entirety via ACCESS by 5:00 p.m. Eastern Time on the date that the submission is due. Note that Commerce has temporarily modified certain of its requirements for serving documents containing business proprietary information until further notice.¹²

¹¹ See generally 19 CFR 351.303.

¹² See Temporary Rule.

Final Results of Review

Unless extended, we intend to issue the final results of this administrative review, including the results of our analysis of the issues raised in any written briefs, not later than 120 days after the date of publication of these preliminary results, pursuant to section 751(a)(3)(A) of the Act.

Assessment of Antidumping Duties

Upon issuance of the final results, Commerce shall determine, and U.S. Customs and Border Protection (CBP) shall assess, antidumping duties on all appropriate entries covered by this review. Commerce intends to issue assessment instructions to CBP for the rescinded companies no earlier than 35 days after the date of publication of the preliminary results of this administrative review in the Federal Register. If a timely summons is filed at the U.S. Court of International Trade, the assessment instructions will direct CBP not to liquidate relevant entries until the time for parties to file a request for a statutory injunction has expired (i.e., within 90 days of publication).

If the weighted-average dumping margin for Di Martino/Dei Campi is not zero or de minimis (i.e., less than 0.5 percent) in the final results of this review, we will calculate importer-specific ad valorem assessment rates for the merchandise based on the ratio of the total amount of dumping calculated for the examined sales made during the POR to each importer and the total entered value of those same sales, in accordance with 19 CFR 351.212(b)(1). Where an importer-specific ad valorem assessment rate is zero or de minimis in the final results of review, we will instruct CBP to liquidate the appropriate entries without regard to antidumping duties, in accordance with 19 CFR 351.106(c)(2). If Di Martino/Dei Campi's weighted-average dumping margin is zero or de minimis in the final results of review, we will instruct CBP not to assess duties on any of its entries in accordance with the Final Modification for Reviews, i.e., “{w}here the weighted-average margin of dumping for the exporter is determined to be zero or de minimis, no antidumping duties will be assessed.” ¹³ For entries of subject merchandise during the POR produced by Di Martino/Dei Campi for which the producer did not know its merchandise was destined for the United States, we will instruct CBP to liquidate unreviewed entries at the all-others rate if there is no rate for the intermediate company (or companies) involved in the transaction.¹⁴

¹³ See Antidumping Proceedings: Calculation of the Weighted-Average Dumping Margin and Assessment Rate in Certain Antidumping Proceedings; Final Modification, 77 FR 8101, 8102 (February 14, 2012) (Final Modification for Reviews).

¹⁴ See Antidumping and Countervailing Duty Proceedings: Assessment of Antidumping Duties, 68 FR 23954 (May 6, 2003).

For the companies for which we have rescinded this review, Commerce intends to instruct CBP to assess antidumping duties on all appropriate entries at a rate equal to the cash deposit rate of estimated antidumping duties required at the time of entry, or withdrawal from warehouse, for consumption, during the POR, in accordance with 19 CFR 351.212(c)(1)(i).

Cash Deposit Requirements

The following cash deposit requirements will be effective upon publication of the final results of this administrative review for all shipments of the subject merchandise entered, or withdrawn from warehouse, for consumption on or after the publication date of the final results of this administrative review, as provided by section 751(a)(2)(C) of the Act: (1) the cash deposit rate for Di Martino/Dei Campi will be equal to the weighted-average dumping margin established in the final results of this administrative review (unless that rate is de minimis where the cash deposit rate will be zero percent); (2) for previously reviewed or investigated companies not listed above, the cash deposit rate will continue to be the company-specific rate published for the most recently completed segment of this proceeding in which the company participated; (3) if the exporter is not a firm covered in this review, a prior review, or in the investigation, but the producer is, then the cash deposit rate will be the rate established for the most recently completed segment of this proceeding for the producer of the merchandise; and (4) the cash deposit rate for all other producers or exporters will continue to be 15.45 percent, the all-others rate established in the less-than-fair-value investigation as modified by the section 129 determination.¹⁵

¹⁵ See Implementation of the Findings of the WTO Panel in US—Zeroing (EC): Notice of Determinations Under Section 129 of the Uruguay Round Agreements Act and Revocations and Partial Revocations of Certain Antidumping Duty Orders, 72 FR 25261, 25263 (May 4, 2007).

These cash deposit requirements, when imposed, shall remain in effect until further notice.

Notification to Importers

This notice serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties.

Notification to Interested Parties

We are issuing and publishing these preliminary results in accordance with sections 751(a)(1) and 777(i)(1) of the Act, and 19 CFR 351.213(d)(4).

Dated: July 25, 2022.
Lisa W. Wang,
Assistant Secretary for Enforcement and Compliance.

Appendix I

List of Topics Discussed in the Preliminary Decision Memorandum

I. Summary

II. Background

III. Scope of the Order

IV. Affiliation and Collapsing

V. Partial Rescission of Review

VI. Discussion of the Methodology

VII. Recommendation

Appendix II

Companies Rescinded From Review

1. Aldino S.r.l.

2. Armonie D'Italia srl

3. F. Divella S.p.A.

4. Falco Molino e Pastificio srl

5. La Molisana SpA

6. Pasta Castiglioni

7. Pastificio C.A.M.S. Srl

8. Pastificio Della Forma S.r.l.

9. Pastificio Favellato srl

10. Pastificio Fratelli De Luca S.r.l.

11. Pastificio Liguori dal 1870 SpA

12. Pastificio Mediterranea S.R.L.

13. Pastificio Tamma S.r.l.

14. Rummo S.p.A.

15. Valdigrano di Flavio Pagani S.r.L

[FR Doc. 2022-16524 Filed 8-1-22; 8:45 am]

BILLING CODE 3510-DS-P